DEPARTMENT OF HEALTH AND HUMAN SERVICES

45 CFR Part 98

RIN 0970-AD02

Improving Child Care Access, Affordability, and Stability in the Child Care and Development Fund (CCDF); Corrections

AGENCY: Office of Child Care (OCC), Administration for Children and Families (ACF), Department of Health and Human Services (HHS).

ACTION: Correcting amendments.

SUMMARY: On March 1, 2024, the Department of Health and Human Services published a final rule to improve child care access, affordability, and stability in the Child Care and Development Fund. An amendment in the final rule was incorporated incorrectly due to technical inaccuracies in the instructions. Additionally, this document addresses one reference error of the rule. This document makes technical changes to correct the final regulations.

DATES: Effective on October 25, 2024.

FOR FURTHER INFORMATION CONTACT: Megan Campbell, Office of Child Care, 202-690-6499 or megan.campbell@acf.hhs.gov.

SUPPLEMENTARY INFORMATION: The “Improving Child Care Access, Affordability, and Stability in the Child Care and Development Fund (CCDF)” rule, published at 89 FR 15366 on March 1, 2024, included an inaccurate amendatory instruction for § 98.21. Another reference error in § 98.83 dates to a previous amendment to the CCDF rule, published at 81 FR 67438 on September 30, 2016. This document corrects the final regulations.

List of Subjects in 45 CFR Part 98

Child care, Grant programs—social programs.

Accordingly, 45 CFR part 98 is corrected by making the following correcting amendments:

PART 98—CHILD CARE AND DEVELOPMENT FUND

1. The authority citation for part 98 continues to read as follows:

Authority: 42 U.S.C. 618, 9858.

§ 98.21 [Amended]

2. Amend § 98.21 by removing paragraph (h) and redesignating paragraphs (i) through (k) as paragraphs (h) through (j).

3. Amend § 98.83 by revising paragraph (j)(2) to read as follows:

§ 98.83 Requirements for tribal programs.

* * * * *

(j) * * *

(2) Federal obligation of funds for planning costs, pursuant to paragraph (j)(1) of this section, is subject to the actual availability of the appropriation.

* * * * *

Elizabeth J. Gramling,
Executive Secretary, Department of Health and Human Services.

[FR Doc. 2024-24781 Filed 10-24-24; 8:45 am]

BILLING CODE P